DEPARTMENT OF THE INTERIOR

National Park Service

Fire Management Plan, Final Environmental Impact Statement, Saguaro National Park, AZ

AGENCY: National Park Service, Department of the Interior.

ACTION: Notice of availability of a Record of Decision on the Final Environmental Impact Statement for the Fire Management Plan, Saguaro National Park.

SUMMARY: Pursuant to Section 102(2)(C) of the National Environmental Policy Act of 1969, 83 Stat. 852, 853, codified as amended at 42 U.S.C. 4332(2)(C), the National Park Service announces the availability of the Record of Decision for the Fire Management Plan, Saguaro National Park, Arizona. On April 25, 2007, the Director, Intermountain Region approved the Record of Decision for the project. As soon as practicable, the National Park Service will begin to implement the Preferred Alternative contained in the FEIS issued on October 7, 2005. The following course of action will occur under the preferred alternative, a fire management program utilizing wildland fire use fires, prescribed fire, non-fire treatments and suppression. This course of action and 2 alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, and an overview of public involvement in the decision-making process.

FOR FURTHER INFORMATION CONTACT: Kristy Lund, 3693 S. Old Spanish Trail, AZ 85730, KristyLund@nps.gov.

SUPPLEMENTARY INFORMATION: Copies of the Record of Decision may be obtained from the contact listed above or online at http://parkplanning.nps.gov.

Dated: April 25, 2007.
Anthony J. Schetzsle,
Deputy Regional Director, Intermountain Region, National Park Service.

[FR Doc. 07-3288 Filed 7-6-07; 8:45 am]

BILLING CODE 4312-50-M